DEPARTMENT OF HEALTH AND HUMAN SERVICES

Notice of Meeting of the Advisory Committee on Blood Safety and Availability; Correction

AGENCY: Department of Health and Human Services, Office of the Secretary.

ACTION: Notice; correction.

SUMMARY: The Department published a notice in the Federal Register of February 25, 2004, announcing a meeting of the Advisory Committee on Blood Safety and Availability to be held on Wednesday, April 7, and Thursday, April 8, 2004. The notice contained an incorrect meeting topic.

FOR FURTHER INFORMATION CONTACT: Jerry A. Holmberg, Executive Secretary, Advisory Committee on Blood Safety and Availability, Department of Health and Human Services, Office of Public Health and Science, 1101 Wootton Parkway, Suite 250, Rockville, MD 20852, (301) 443-2331, FAX (301) 443-4788, e-mail jholmberg@osophs.dhhs.gov.

Correction

In the Federal Register of February 25, 2004 in FR Doc Vol. 69, No. 37, on page 8661, in the second column, correct the SUMMARY to read:

SUMMARY: The Advisory Committee on Blood Safety and Availability will meet to examine the impact and assessment of bacterial detection on plasma products. The meeting will be entirely open to the public.

Dated: March 11, 2004.
Jerry A. Holmberg,
Executive Secretary, Advisory Committee on Blood Safety and Availability.

[FR Doc. 04-6044 Filed 3-16-04; 8:45 am]

BILLING CODE 4150-28-P